FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011275-033.

Title: Australia and New Zealand-United States Discussion Agreement.

Parties: ANL Singapore Pte Ltd.; CMA CGM, S.A.; Hamburg-Süd KG; Hapag-Lloyd AG; and Mediterranean Shipping Company S.A.

Filing Party: Wayne R. Rohde, Esq.; Cozen O'Connor LLP; 1627 I Street NW., Suite 1100; Washington, DC 20006-4007.

Synopsis: The amendment would adjust the minimum service level set forth in the agreement to reflect the resignation of Maersk Line from the agreement.

Agreement No.: 012117-001.

Title: Maersk Line/HLAG West Med Slot Exchange Agreement.

Parties: A.P. Moller-Maersk A/S and Hapag-Lloyd AG.

Filing Parties: Wayne Rohde, Esq.; Cozen O'Connor; 1627 I Street NW., Suite 1100; Washington, DC 20006.

Synopsis: The amendment would add Morocco to the geographic scope of the agreement, adjust the amount of space to be exchanged, and delete obsolete language from the agreement.

Agreement No.: 012128-001.

Title: Southern Africa Agreement.

Parties: A.P. Moller-Maersk A/S trading under the name Maersk Line, Safmarine Container Lines N.V. and Mediterranean Shipping Company S.A.

Filing Party: Wayne R. Rohde, Esquire; Cozen O'Connor; 1627 I Street NW., Suite 1100; Washington, DC 20006-4007.

Synopsis: The amendment would add a new Article 5.1(b) authorizing the parties to introduce additional vessels into the services covered by the Agreement and to share the cost of same.

Agreement No.: 012173.

Title: Hyundai/MOL/APL Asia/Latin America/U.S. East Coast Slot Charter Agreement.

Parties: Hyundai Merchant Marine Co., Ltd., Mistsui O.S.K. Lines, Ltd., and APL Co. Pte Ltd. and American President Lines, Ltd.

Filing Party: David F. Smith, Esquire; Cozen O'Connor; 1627 I Street NW., Suite 1100; Washington, DC 20006-4007.

Synopsis: The agreement authorizes Hyundai to charter space to MOL and APL in the relevant trade and to authorize the parties to enter into cooperative arrangements with respect to the chartering of such space.

Agreement No.: 012174.

Title: Hoegh/Liberty Middle East Space Charter Agreement.

Parties: Hoegh Autoliners AS and Liberty Global Logistics LLC.

Filing Party: Wayne R. Rohde, Esquire; Cozen O'Connor; 1627 I Street NW., Suite 1100; Washington, DC 20006-4007.

Synopsis: The agreement would authorize the parties to charter space to/from one another on an “as needed, as available” basis in the trade from ports on the U.S. East and Gulf Coasts to ports in countries bordering the Red Sea and Arabian Gulf.

By Order of the Federal Maritime Commission.
Dated: June 1, 2012.
Karen V. Gregory,
Secretary.

[FR Doc. 2012-13742 Filed 6-5-12; 8:45 am]

BILLING CODE 6730-01-P